FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 22, 2002.

A. Federal Reserve Bank of Chicago (Phillip Jackson, Applications Officer) 230 South LaSalle Street, Chicago, Illinois 60690-1414:

1. Gary F. Pribyl, Cedar Rapids, Iowa, as trustee to vote shares of Herky Hawk Financial Corp., Monticello, Iowa, and thereby indirectly retain voting shares of Citizens State Bank, Monticello, Iowa. Herky Hawk Financial Corp., also has applied to merge with Biggsville Financial Corporation, Biggsville, Illinois, and thereby acquire 100 percent of the outstanding voting shares of First State Bank, Biggsville, Illinois, and to acquire 100 percent of the outstanding voting shares of Casey State Bank, Casey, Illinois, and New Vienna Savings Bank, New Vienna, Iowa, pursuant to Section 3 of the Bank Holding Company Act.

Board of Governors of the Federal Reserve System, May 2, 2002.
Robert deV. Frierson,
Deputy Secretary of the Board.

[FR Doc. 02-11345 Filed 5-7-02; 8:45 am]

BILLING CODE 6210-01-S